EXPORT-IMPORT BANK OF THE UNITED STATES

Economic Impact Policy

This notice is to inform the public that the Export-Import Bank of the United States has received an application to finance the export of eight refurbished U.S. locomotives valued at approximately $14 million to Kenya. These locomotives will be dedicated to transport soda ash from the production facility to the Kenyan coast. Five of the eight locomotives will replace existing 1970 vintage locomotives. The remaining three locomotives will be used to meet the buyer's need for increased transport capacity resulting from a recent 365,000 metric ton per year production expansion, which is scheduled to be commissioned in March 2006. Available information indicates that this new production will be consumed in India, Southeast Asia, Africa and the Middle East. Interested parties may submit comments on this transaction by e-mail to economic.impact@exim.gov or by mail to 811 Vermont Avenue, NW., Room 1238, Washington, DC 20571, within 14 days of the date this notice appears in the Federal Register.

Helene S. Walsh,
Director, Policy Oversight and Review.

[FR Doc. E6-1734 Filed 2-8-06; 8:45 am]

BILLING CODE 6690-01-P